DEPARTMENT OF HEALTH AND HUMAN SERVICES

National Institutes of Health

Proposed Data Collection; Comment Request Health Information National Trends Survey (HINTS) II

SUMMARY: In compliance with the requirements of Section 3506(c)(2)(A) of the Paperwork Reduction Act of 1995 for opportunity for public comment on proposed data collection projects, the National Cancer Institute (NCI), National Institutes of Health (NIH) will publish periodic summaries of proposed projects to be submitted to the Office of Management and Budget (OMB) for review and approval.

Proposed Collection: Title: Health Information National Trends Survey (HINTS) II. Type of Information Collection Request: New. Need and Use of Information Collection: The Health Information National Trends Survey (HINTS) is a biennial survey designed to provide nationally representative, population-based data on health information for the United States. The NCI funded HINTS to assist in its effort to (1) encourage programmatic and interdisciplinary approaches to cancer communication research, and (2) accelerate development of innovative health communication models, theories, and research strategies in cancer prevention, control, and care. HINTS II. scheduled to commence in early 2005, will preserve the methodological integrity of the first cycle of HINTS by using the telephone as the primary mode of data collection as well as retaining approximately 50% of the questionnaire content. In addition, HINTS II will experiment with alternative modes of data collection (i.e., the Internet). Data will be used (1) to understand individuals' sources of and access to cancer-related information; (2) to measure progress in improving cancer knowledge and communication to the general public; (3) to develop appropriate messages for the public about cancer prevention, detection, diagnosis, treatment, and survivorship; and (4) to identify research gaps and guide decisions about NCI's research efforts in health promotion and health communication. Frequency of response: One-time. Affected public: Individuals. Type of Respondents: U.S. Adults, Pilot Survey, Screeners and Interview. The annual reporting burden is as follows: Estimated Number of Respondents: 10,389; Estimated Number of Responses per Respondent: 1; Average Burden Hours per Response: .37; and Estimated Total Annual Burden Hours Requested: 3,836. The annualized cost to respondents is estimated at $38,360. There are no Capital Costs to report. There are no Operating or Maintenance Costs to report.

Type of respondent | Estimated number of respondents | Frequency of response | Average hours per response | Annual hour burden
Pilot Survey | 150 | 1 | .4167 | 63
HINTS II Screener | 10,239 | 1 | .0833 | 854
HINTS II Interview* | 7,004 | 1 | .4167 | 2,919
Totals |  |  |  | 3,836
*HINTS II interview respondents are a subset of the screener respondents (N = 10,389).

Request For Comments: Written comments and/or suggestions from the public and affected agencies are invited on one or more of the following points: (1) Whether the proposed collection of information is necessary for the proposed performance of the functions of the agency, including whether the information shall have practical utility; (2) The accuracy of the estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Bradford W. Hesse, Ph.D., Project Officer, National Cancer Institute, NIH, EPN 4068, 6130 Executive Boulevard MSC 7365, Bethesda, Maryland 20892-7365, or call non-toll-free number (301) 594-9904, or FAX your request to (301) 480-2198, or E-mail your request, including your address, to hesseb@mail.nih.gov.

Comments Due Date: Comments regarding this information collection are best assured of having their full effect if received within 30-days of this notice.

Dated: April 1, 2004.
Rachelle Ragland-Greene,
OMB Clearance Liaison, National Cancel Institute, National Institutes of health.

[FR Doc. 04-8270 Filed 4-12-04; 8:45 am]

BILLING CODE 4140-01-M